DEPARTMENT OF TRANSPORTATION

Federal Aviation Administration

14 CFR Part 39

[Docket No. 2003-CE-40-AD; Amendment 39-13795; AD 2004-19-01]

RIN 2120-AA64

Airworthiness Directives; Cessna Aircraft Company 120, 140, 140A, 150, F150, 170, 172, F172, FR172, P172D, 175, 177, 180, 182, 185, A185E, 190, 195, 206, P206, U206, TP206, TU206, 207, T207, 210, T210, 336, 337, and T337 Series Airplanes

AGENCY: Federal Aviation Administration (FAA), DOT.

ACTION: Final rule; correction.

SUMMARY: This document makes a correction to Airworthiness Directive (AD) 2004-19-01, which was published in the Federal Register on September 17, 2004 (69 FR 55943), and applies to certain Cessna Aircraft Company (Cessna) 120, 140, 140A, 150, F150, 170, 172, F172, FR172, P172D, 175, 177, 180, 182, 185, A185E, 190, 195, 205, 205A, 206, P206, P206E, TP206A, TU206, TU206E, U206, U206E, 207, T207, 210, T210, 336, 337, and T337 series airplanes. We incorrectly referenced a serial number for the affected Model T337B airplanes in the applicability section as 37-0570. The correct serial number is 337-0570. This action corrects the applicability section of AD 2004-19-01, Amendment 39-13795.

DATES: The effective date of this AD remains November 1, 2004.

FOR FURTHER INFORMATION CONTACT: Gary D. Park, Aerospace Engineer, FAA, Wichita Aircraft Certification Office, 1801 Airport Road, Room 100, Mid-Continent Airport, Wichita, Kansas 67209; telephone: (316) 946-4123; facsimile: (316) 946-4107.

SUPPLEMENTARY INFORMATION:

Discussion

On September 8, 2004, FAA issued AD 2004-19-01, Amendment 39-13795 (69 FR 55943, September 17, 2004) (as corrected in the publication of October 7, 2004 (69 FR 60081), which applies to certain Cessna 120, 140, 140A, 150, F150, 170, 172, F172, FR172, P172D, 175, 177, 180, 182, 185, A185E, 190, 195, 205, 205A, 206, P206, P206E, TP206A, TU206, TU206E, U206, U206E, 207, T207, 210, T210, 336, 337, and T337 series airplanes. This AD supersedes AD 86-26-04 with a new AD that requires you to inspect and, if necessary, modify the pilot/co-pilot upper shoulder harness adjusters that have certain Cessna accessory kits incorporated.

Need for the Correction

The FAA incorrectly referenced a serial number for Model T337B airplanes in the applicability section of AD 2004-19-01. The correct serial number range for the affected Model T337B airplanes is 337-0001, 337-0470, 337-0526 through 337-0568, and 337-0570 through 337-0755. This correction is needed to prevent confusion in the field regarding the FAA's intent of the AD applicability.

Correction of Publication

Accordingly, the publication of September 17, 2004 (69 FR 55943), of AD 2004-19-01; Amendment 39-13795; which was the subject of FR Doc. 04-20774 (as corrected in the publication of October 7, 2004 (69 FR 60081), which was the subject of FR Doc. 04-21814), is corrected as follows:

§ 39.13 [Corrected]

On page 55946, in § 39.13 [Amended], 2., replace paragraph (c)(129) with the following text:

“(129) T337B 337-0001, 337-0470, 337-0526 through 337-0568, and 337-0570 through 337-0755”.

Action is taken herein to correct this reference in AD 2004-19-01 and to add this AD correction to § 39.13 of the Federal Aviation Regulations (14 CFR 39.13).

The effective date remains November 1, 2004.

Issued in Kansas City, Missouri, on December 7, 2004.
Sandra J. Campbell,
Acting Manager, Small Airplane Directorate, Aircraft Certification Service.

[FR Doc. 04-27513 Filed 12-15-04; 8:45 am]

BILLING CODE 4910-13-P